DEPARTMENT OF TRANSPORTATION

Federal Aviation Administration

14 CFR Part 39

[Docket No. FAA-2013-0869; Directorate Identifier 2013-NM-063-AD; Amendment 39-17845; AD 2014-09-10]

RIN 2120-AA64

Airworthiness Directives; The Boeing Company Airplanes

AGENCY: Federal Aviation Administration (FAA), DOT.

ACTION: Final rule.

SUMMARY: We are adopting a new airworthiness directive (AD) for certain The Boeing Company Model 767 airplanes. This AD was prompted by reports of bearing damage at certain trailing edge (TE) flap support rib assemblies. This AD requires inspecting certain TE flap support rib assemblies to determine if the bearings have a roller retention feature, and performing corrective actions if necessary; and inspecting for bearing damage of each pair of removed bearings, and performing related investigative and corrective actions if necessary. We are issuing this AD to detect and correct damage to the TE flap support bearings, which could ultimately result in loss of controllability of the airplane.

DATES: This AD is effective June 18, 2014.

The Director of the Federal Register approved the incorporation by reference of a certain publication listed in this AD as of June 18, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0869; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office (ACO), 1601 Lind Avenue SW., Renton, WA 98057-3356; phone: 425-917-6577; fax: 425-917-6590; email: Berhane.Alazar@faa.gov.

SUPPLEMENTARY INFORMATION:

Discussion

We issued a notice of proposed rulemaking (NPRM) to amend 14 CFR part 39 by adding an AD that would apply to certain The Boeing Company Model 767 airplanes. The NPRM published in the Federal Register on November 7, 2013 (78 FR 66859). The NPRM was prompted by reports of bearing damage at certain TE flap support rib assemblies. The NPRM proposed to require inspecting certain TE flap support rib assemblies to determine if the bearings have a roller retention feature, and performing corrective actions if necessary; and inspecting for bearing damage of each pair of removed bearings, and performing related investigative and corrective actions if necessary. We are issuing this AD to detect and correct damage to the TE flap support bearings, which can result in damage to the TE rotary actuators and consequent dual flap drive system disconnect in both TE flap rotary actuators, and a possible flap aerodynamic blowback with loss of controllability of the airplane.

Comments

We gave the public the opportunity to participate in developing this AD. The following presents the comments received on the proposal (78 FR 66859, November 7, 2013) and the FAA's response to each comment.

Support for the NPRM (78 FR 66859, November 7, 2013)

Boeing stated that it concurs with the contents of the NPRM (78 FR 66859, November 7, 2013).

Statement Regarding the NPRM (78 FR 66859, November 7, 2013)

United Airlines stated that it has reviewed the NPRM (78 FR 66859, November 7, 2013), and has no comment to submit.

Statement Regarding the Installation of Winglets

Aviation Partners Boeing (APB) stated that the installation of winglets per APB Supplemental Type Certificate (STC) ST01920SE (http://rgl.faa.gov/Regulatory_and_Guidance_Library/rgstc.nsf/0/59027f43b9a7486e86257b1d006591ee/$FILE/ST01920SE.pdf) does not affect the accomplishment of the manufacturer's service instructions.

We agree with APB's statement that the installation of winglets as specified in APB STC ST01219SE (http://rgl.faa.gov/Regulatory_and_Guidance_Library/rgstc.nsf/0/59027f43b9a7486e86257b1d006591ee/$FILE/ST01920SE.pdf) does not affect accomplishment of the requirements of this AD. Therefore, for airplanes on which APB STC ST01920SE is installed, a “change in product” alternative method of compliance (AMOC) approval request is not necessary to comply with the requirements of section 39.17 of the Federal Aviation Regulations (14 CFR 39.17). We have redesignated paragraph (c) as paragraph (c)(1) of this final rule, and added paragraph (c)(2) to this final rule to state that installation of STC ST01219SE does not affect the ability to accomplish the actions required by this final rule.

Request for Clarification of Trailing Edge Flap Support Re-Identification

ANA requested that we clarify whether the re-identification of the trailing edge flap support, as described in Part 3 of the Accomplishment Instructions of Boeing Alert Service Bulletin 767-27A0227, dated February 12, 2013, for Groups 1 and 3, Configuration 1, airplanes, would be required by the NPRM (78 FR 66859, November 7, 2013).

We agree to clarify. This final rule does require part re-identification for Groups 1 and 3, Configuration 1 airplanes, as identified in Part 3 of the Accomplishment Instructions of Boeing Alert Service Bulletin 767-27A0227, dated February 12, 2013. This part re-identification is for parts configuration control purposes. We have not changed this final rule in this regard.

Request for Credit for Previous Actions

All Nippon Airways (ANA) requested that we provide credit for the actions specified in paragraphs (g) and (h) of the NPRM (78 FR 66859, November 7, 2013), if, before the effective date of the AD, airplane records were used to verify and determine that the bearings have a roller retention feature installed using Boeing Alert Service Bulletin 767-27A0222, dated June 24, 2010.

We partially agree with the commenter's request. Verifying through airplane records and determining that the bearings have a roller retention feature meets the intent of this final rule. Therefore, we have revised paragraph (g) of this final rule to allow for a review of airplane maintenance records in lieu of the roller retention feature inspection if it can be conclusively determined from that review that each affected bearing has a roller retention feature.

However, paragraph (j) of this final rule already provides credit for the actions specified in paragraphs (g) and (h) of this final rule, if those actions were performed before the effective date of this final rule using Boeing Alert Service Bulletin 767-27A0222, dated June 24, 2010. Therefore, no further change to this final rule is necessary in this regard.

Additional Change Made to This Final Rule

We have revised the heading for paragraph (j) of this final rule.

Conclusion

We reviewed the relevant data, considered the comments received, and determined that air safety and the public interest require adopting this AD with the changes described and minor editorial changes. We have determined that these minor changes:

• Αre consistent with the intent that was proposed in the NPRM (78 FR 66859, November 7, 2013) for correcting the unsafe condition; and

• Do not add any additional burden upon the public than was already proposed in the NPRM (78 FR 66859, November 7, 2013).

We also determined that these changes will not increase the economic burden on any operator or increase the scope of this AD.

Costs of Compliance

We estimate that this AD affects 45 airplanes of U.S. registry.

We estimate the following costs to comply with this AD:

Estimated Costs
Action | Labor cost | Parts cost | Cost per product | Cost on U.S. operators
Inspection | Up to 40 work-hours × $85 per hour = Up to $3,400 | $0 | Up to $3,400 | Up to $153,000.

We estimate the following costs to do any necessary replacements that would be required based on the results of the inspection. We have no way of determining the number of aircraft that might need these replacements:

On-Condition Costs
Action | Labor cost | Parts cost | Cost per product
Bearing replacement and functional test | Up to 24 work-hours × $85 per hour = Up to $2,040 | Up to $5,936 | Up to $7,976.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-09-10 The Boeing Company: Amendment 39-17845; Docket No. FAA-2013-0869; Directorate Identifier 2013-NM-063-AD.

(a) Effective Date

This AD is effective June 18, 2014.

(b) Affected ADs

None.

(c) Applicability

(1) This AD applies to The Boeing Company Model 767-200, -300, -300F, and -400ER series airplanes, certificated in any category, as identified in Boeing Alert Service Bulletin 767-27A0227, dated February 12, 2013.

(2) Installation of Aviation Partners Boeing (APB) Supplemental Type Certificate (STC) ST01920SE (http://rgl.faa.gov/Regulatory_and_Guidance_Library/rgstc.nsf/0/59027f43b9a7486e86257b1d006591ee/$FILE/ST01920SE.pdf) does not affect the ability to accomplish the actions required by this AD. Therefore, for airplanes on which APB STC ST01920SE is installed, a “change in product” alternative method of compliance (AMOC) approval request is not necessary to comply with the requirements of 14 CFR 39.17.

(d) Subject

Air Transport Association (ATA) of America Code 27, Flight controls.

(e) Unsafe Condition

This AD was prompted by reports of bearing damage at certain trailing edge (TE) flap support rib assemblies. We are issuing this AD to detect and correct damage to the TE flap support bearings, which could result in damage to the TE rotary actuators and consequent dual flap drive system disconnect in both TE flap rotary actuators, and a possible flap aerodynamic blowback with loss of controllability of the airplane.

(f) Compliance

Comply with this AD within the compliance times specified, unless already done.

(g) Inspection of Bearings To Determine Roller Retention Feature, and Corrective Actions

Except as provided by paragraph (i) of this AD, at the applicable time specified in paragraph 1.E., “Compliance,” of Boeing Alert Service Bulletin 767-27A0227, dated February 12, 2013: Do a general visual inspection of both bearings at the TE flap support rib assembly in flap positions 1, 2, 7, and 8 to determine if the bearings have a roller retention feature; and do all applicable corrective actions; in accordance with the Accomplishment Instructions of Boeing Alert Service Bulletin 767-27A0227, dated February 12, 2013. Do all applicable corrective actions before further flight. A review of airplane maintenance records is acceptable in lieu of this inspection if the roller retention feature of each affected bearing can be conclusively determined from that review.

(h) Inspection of Bearings for Damage, Related Investigative Actions, and Corrective Actions

For each pair of bearings removed as required by paragraph (g) of this AD: At the applicable time specified in paragraph 1.E., “Compliance,” of Boeing Alert Service Bulletin 767-27A0227, dated February 12, 2013, do a general visual inspection for damage of the bearings, and do all applicable related investigative and corrective actions, in accordance with the Accomplishment Instructions of Boeing Alert Service Bulletin 767-27A0227, dated February 12, 2013. Do all applicable related investigative and corrective actions before further flight.

(i) Exception to Compliance Time

Where paragraph 1.E., “Compliance,” of Boeing Alert Service Bulletin 767-27A0227, dated February 12, 2013, specifies a compliance time “after the original issue date of this service bulletin,” this AD requires compliance within the specified compliance time “after the effective date of this AD.”

(j) Credit for Previous Actions

This paragraph provides credit for the actions specified in paragraphs (g) and (h) of this AD, if those actions were performed before the effective date of this AD using Boeing Alert Service Bulletin 767-27A0222, dated June 24, 2010, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

(1) For more information about this AD, contact Berhane Alazar, Aerospace Engineer, Airframe Branch, ANM-120S, FAA, Seattle Aircraft Certification Office (ACO), 1601 Lind Avenue SW., Renton, WA 98057-3356; phone: 425-917-6577; fax: 425-917-6590; email: Berhane.Alazar@faa.gov.

(2) Service information identified in this AD that is not incorporated by reference may be viewed at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-27A0227, dated February 12, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 24, 2014.
Jeffrey E. Duven,
Manager, Transport Airplane Directorate, Aircraft Certification Service.

[FR Doc. 2014-09953 Filed 5-13-14; 8:45 am]

BILLING CODE 4910-13-P